DEPARTMENT OF AGRICULTURE

Rural Business-Cooperative Service

Submission for OMB Review; Comment Request

June 13, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 18, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Service (RBS)

Title: 7 CFR 4279-A, Guaranteed Loan-making General.

OMB Control Number: 0570-0018.

Summary of Collection: The Business and Industry (B&I) program was legislated in 1972 under Section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. The B&I program is administered by the RBS through Rural Development State and sub-State offices serving each state.

Need and use of the Information: RBS will collect information to determine the eligibility and credit worthiness for a lender or borrower. The information is used by Agency loan officers and approval officials to determine lender program eligibility and for program monitoring.

Description of Respondents: Business or other for-profit; State, Local or Tribal Government.

Number of Respondents: 225.

Frequency of Responses: Reporting: On occasion.

Total Burden Hours: 955.

Rural Business-Cooperative Service

Title: Socially-Disadvantaged Groups Grant Program.

OMB Control Number: 0570-0052.

Summary of Collection: Formerly known as the “Small Socially-Disadvantaged Producer Grant Program,” the program has changed its name to “The Socially-Disadvantaged Groups Grant Program.” It was authorized by section 2744 of the Federal Agriculture Improvement and Reform Act of 2006, Public Law 109-97. The Act provides for the Secretary of Agriculture to make grants to cooperatives or associations of cooperative whose primary focus is to provide assistance to small, socially-disadvantaged producers and whose governing board and/or membership are comprised of at least 75 percent socially-disadvantaged.

Need and Use of the Information: Rural Business Service needs to receive the information contained in this collection of information to make prudent decisions regarding eligibility of applicants and selection priority among competing applicants, to ensure compliance with applicable laws and regulations and to evaluate the projects it believes will provide the most long-term economic benefit to rural areas.

Description of Respondents: Not-for-profit institutions.

Number of Respondents: 60.

Frequency of Responses: Recordkeeping; Reporting: Semi-Annually; Annually.

Total Burden Hours: 575.

Charlene Parker,
Departmental Information Collection Clearance Officer.

[FR Doc. 2016-14227 Filed 6-15-16; 8:45 am]

BILLING CODE 3410-XY-P